FEDERAL MARITIME COMMISSION

Ocean Transportation Intermediary License Reissuances

Notice is hereby given that the following Ocean Transportation Intermediary licenses have been reissued by the Federal Maritime Commission pursuant to section 19 of the Shipping Act of 1984, (46 U.S.C. app. 1718) and the regulations of the Commission pertaining to the licensing of Ocean Transportation Intermediaries, 46 CFR part 515.

License No. | Name/address | Date reissued
018442F | AAC Perishables Logistics, Inc., 6300 NW 97th Avenue, Miami, FL 33178 | January 6, 2006.
004286NF | Joseph Esposito dba Mondo Comm International Ltd., 17 Main Street, Bloomington, NJ 07403 | February 2, 2006.
018454F | M.O.T. Intermodal Shipping (NY) Inc., 1200-A Scottsville Road, Rochester, NY 14624 | February 5, 2006.

Sandra L. Kusumoto,
Director, Bureau of Certification and Licensing.

[FR Doc. E6-4926 Filed 4-4-06; 8:45 am]

BILLING CODE 6730-01-P